Proclamation 10646 of October 6, 2023

National School Lunch Week, 2023

By the President of the United States of America

A Proclamation

I have often said that children are the kite strings that keep our national ambitions aloft. During National School Lunch Week, we recognize that the health and well-being of children is a national priority and that every student should have access to healthy meals. We also reaffirm our support of the National School Lunch Program and all school nutrition professionals nationwide for the work they do to feed 30 million children each school day.

School lunches have long been a lifeline for so many students across our country. For all families, including those that qualify for free or reduced-price school lunch, parents have the peace of mind of knowing there is a healthy, balanced meal available to their children. And children, fueled by their school lunches, can more effectively focus and learn in the classroom. In fact, studies show that nutritious school lunches may increase academic performance and reduce the likelihood of childhood obesity. And we know these school lunches are especially important for lower-income children, children of color, and children living in rural areas or territories, since they are less likely to have access to food outlets that sell healthier foods.

In order to build a stronger and healthier Nation, my Administration has made the well-being of American families and our children a priority. Our American Rescue Plan expanded the Child Tax Credit, which helped keep food on the table for millions of families during the pandemic, slashed child poverty by nearly 50 percent, and cut food insufficiency for families with children by more than 25 percent. My Administration also modernized the Thrifty Food Plan for the first time since 1975, making sure that the millions of families receiving Supplemental Nutrition Assistance Program benefits can afford a nutritious, practical, cost-effective diet. And last year, I convened the first White House Conference on Hunger, Nutrition, and Health in over 50 years, bringing together advocates, food companies, health care providers, and leaders from across the Government and Federal agencies. We also released a national strategy to end hunger and reduce diet-related diseases by 2030. This strategy includes the goal of expanding access to healthy, free school meals to 9 million more kids in the next decade, a major step toward free healthy school meals for every student.

We have already made significant progress. By making permanent the American Rescue Plan program that gives families money to buy groceries in the summer months when school is not in session, we are fulfilling our commitment to ensure each American child has a nutritious meal every day. We are also giving more schools the option to make healthy school meals available to all students at no cost to their families during the school year. And we are continuing to support schools so they can cook more meals from scratch and purchase more food from local farmers and ranchers. That means children will have healthier meals, and farmers and ranchers will be able to participate in reliable markets, strengthening rural economies. I also continue to call on the Congress to restore my enhanced Child Tax Credit, which helped millions of families afford healthy food at home.

In America, no child should ever go to bed hungry—without healthy food, our children cannot thrive. And no child's future should be determined by where they were born or their family's income. During National School Lunch Week, we recognize that helping our children fulfill their highest potential begins with access to healthy and nutritious meals at school. And we honor all the farmers, ranchers, teachers, school nutrition professionals, and staff who make these lunches possible and nourish the soul of America.

NOW, THEREFORE, I, JOSEPH R. BIDEN JR., President of the United States of America, by virtue of the authority vested in me by the Constitution and the laws of the United States, do hereby proclaim October 8 through October 14, 2023, as National School Lunch Week. I call upon all Americans to recognize and commemorate all those who operate the National School Lunch Program with activities that raise awareness of the steadfast efforts in supporting the health and well-being of our Nation's children.

IN WITNESS WHEREOF, I have hereunto set my hand this sixth day of October, in the year of our Lord two thousand twenty-three, and of the Independence of the United States of America the two hundred and forty-eighth.

[FR Doc. 2023-22664

Filed 10-11-23; 8:45 am]

Billing code 3395-F4-P